DEPARTMENT OF THE INTERIOR

Minerals Management Service

Program for Renewable Energy and Alternate Use of Existing Structures on the Outer Continental Shelf

AGENCY: Minerals Management Service (MMS), Interior.

ACTION: Notice of Intent (NOI) to prepare a programmatic environmental impact statement (EIS) and scoping meetings.

1. Authority

The Notice of Intent (NOI) and notice of scoping meetings is published pursuant to the regulations (40 CFR 1501.7) implementing the provisions of the National Environmental Policy Act (NEPA) of 1969, as amended (42 U.S.C. 4321 et seq.).

2. Purpose of Notice of Intent

Pursuant to the regulations implementing the procedural provisions of the NEPA, the Minerals Management Service (MMS) is announcing its intent to prepare a programmatic EIS for the National Offshore Alternate Energy-Related Use (AERU) Program and Rule as authorized by the Energy Policy Act of 2005. The NOI also serves to announce the scoping process for this programmatic EIS. Throughout the scoping process, Federal, State, and local government agencies, and other interested parties have the opportunity to advise MMS in determining the significant issues, alternatives, and mitigation measures to be considered for analysis in the programmatic EIS. The programmatic EIS analysis will focus on the potential environmental effects of implementing the AERU program, and associated rulemaking.

3. Cooperating Agency

The MMS invites other Federal agencies and State, tribal, and local governments to consider becoming cooperating agencies in the preparation of the programmatic EIS. We invite qualified government entities to inquire about cooperating agency status for the EIS. Following the guidelines from the Council of Environmental Quality (CEQ), qualified agencies and governments are those with ”jurisdiction by law or special expertise.” Potential cooperating agencies should consider their authority and capacity to assume the responsibilities of a cooperating agency and to remember that an agency's role in the environmental analysis neither enlarges nor diminishes the final decision making authority of any other agency involved in the NEPA process. Upon request, the MMS will provide potential cooperating agencies with a written summary of ground rules for cooperating agencies, including time schedules and critical action dates, milestones, responsibilities, scope and detail of cooperating agencies' contributions, and availability of pre-decisional information. The MMS anticipates this summary will form the basis for understanding between the MMS and each cooperating agency. Agencies should also consider the “Factors for Determining Cooperating Agency Status” in Attachment 1 to CEQ's January 30, 2002, Memorandum for the Heads of Federal Agencies: Cooperating Agencies in Implementing the Procedural Requirements of the National Environmental Policy Act. A copy of this document is available at: http://ceq.eh.doe.gov/nepa/regs/cooperating/cooperatingagenciesmemorandum.html and http://ceq.eh.doe.gov/nepa/regs/cooperating/cooperatingagencymemofactors.html.

The MMS, as the lead agency, will not provide financial assistance to cooperating agencies. Even if an organization is not a cooperating agency, opportunities will exist to provide information and comments to MMS during the normal public input phases of the NEPA/EIS process. If further information about cooperating agencies is needed, please contact Mr. James F. Bennett at (703) 787-1660.

4. Comments

Federal, State, tribal, local government agencies, and other interested parties are requested to provide comments on the scope of the programmatic EIS, significant issues that should be addressed, and alternatives that should be considered in one of the following three ways:

1. Electronically, using the online comment form available on the project Web site: ocsenergy.anl.gov. This is the preferred method for commenting.

2. In written form, mailed or delivered to MMS Renewable Energy and Alternate Use Programmatic EIS Scoping, Argonne National Laboratory, 9700 S. Cass Avenue, Argonne, IL 60439.

3. In person, at public scoping meetings to be held in multiple locations in May and June, 2006 (see below).

Comments should be submitted no later than 60 days from the publication of this NOI.

Public Comment Policy: Our practice is to make comments, including names and addresses of respondents, available for public review. Individual respondents may request that we withhold their address from the record, which we will honor to the extent allowable by law. There may be circumstances in which we would withhold from the record a respondent's identity, as allowable by the law. If you wish us to withhold your name and/or address, you must state this prominently at the beginning of your comment. However, we will not consider anonymous comments. Except for proprietary information, we will make all submissions from organizations or businesses, and from individuals identifying themselves as representatives or officials of organizations or businesses, available for public inspection in their entirety.

5. Scoping Meetings

The MMS will hold scoping meetings to obtain additional comments and information regarding the scope of the programmatic EIS. The scoping meetings are scheduled for the following cities:

• Thursday, May 18, 2006, Days Hotel and Conference Center, 2200 Centerville Road, Herndon, Virginia, 5:30 p.m.

• Tuesday, May 23, 2006, Marriott Trenton at Lafayette Yard, 1 West Lafayette Street, Trenton, New Jersey, 5:30 p.m.

• Tuesday, May 23, 2006, Hilton Austin Airport, 9515 New Airport Drive, Austin, Texas, 5:30 p.m.

• Wednesday, May 24, 2006, Melville Marriott, 1350 Old Walt Whitman Road, Melville, New York, 5:30 p.m.

• Thursday, May 25, 2006, Holiday Inn Boston-Dedham Hotel and Conference Center, 55 Ariadne Road, Dedham, Massachusetts, 5:30 p.m.

• Thursday, May 25, 2006, Courtyard Long Beach Downtown, 500 East First Street, Long Beach, California, 5:30 p.m.

• Tuesday, June 6, 2006, Atlanta Marriott Century Center, 2000 Century Boulevard NE, Atlanta, Georgia, 5:30 p.m.

• Tuesday, June 6, 2006, Holiday Inn Portland-Downtown, 1441 NE 2nd Avenue, Portland, Oregon, 5:30 p.m.

• Thursday, June 8, 2006, Embassy Suites Hotel Orlando-International Drive, 8978 International Drive, Orlando, Florida, 5:30 p.m.

• Thursday, June 8, 2006, The Presidio Officer's Club, 50 Moraga Avenue, San Francisco, California, 5:30 p.m.

Dated: May 2, 2006.
R.M. “Johnnie” Burton,
Director, Minerals Management Service.

[FR Doc. E6-6924 Filed 5-4-06; 8:45 am]

BILLING CODE 4310-MR-P